DEPARTMENT OF AGRICULTURE

Forest Service

Livestock Grazing Permit Re-issuance on the Horse Butte Allotment Gallatin National Forest, Gallatin County, Montana

AGENCY: Forest Service, USDA.

ACTION: Notice; intent to prepare environmental impact statement.

SUMMARY: The USDA, Forest Service, will prepare an environmental impact statement (EIS) to disclose the environmental effects of continued livestock grazing of up to 263 cow/calf pairs and horses on a Gallatin National Forest grazing allotment located on the Horse Butte peninsula near West Yellowstone, Montana (hereafter referred to as the Horse Butte Allotment). Grazing would occur from June through mid-October annually under a seasonally deferred rotation schedule. Grazing permits establish the amount, duration, location, and circumstances (management constraints) under which grazing will be allowed on the National Forest.

DATES: Written comments and suggestions should be received within 30 days following publication of this notice.

ADDRESSES: Submit written comments and suggestions on this proposal or a request to be placed on the project mailing list to Tris Hoffman, Hebgen Lake Ranger District, Gallatin National Forest, PO Box 520, West Yellowstone, Montana, 59758.

FOR FURTHER INFORMATION CONTACT: Tris Hoffman, EIS Team Leader, Hebgen Lake Ranger District, Phone (406) 823-6966.

SUPPLEMENTARY INFORMATION: The Horse Butte allotment covers approximately 2065 acres of the Horse Butte Peninsula between the Grayling and Madison Arms of Hebgen Lake. The allotment is located approximately 8 miles northwest of West Yellowstone, Montana. It is bordered by private land along much of its eastern boundary. The allotment is comprised of six pastures. Five of the six pastures are currently, and proposed to be, managed under a seasonally deferred rotation system, 58% of which is primary range and about 37% is secondary range. The sixth pasture, the Grayling Unit, is an on-off pasture. This pasture involves 3 separate parcels of Forest Service property (totaling 65 acres) that are used in combination with adjacent private property. The on-off parcels are currently authorized as continuous grazing.

Comments will be used to identify issues that should be addressed in environmental analysis. The analysis is being conducted in compliance with the National Environmental Policy Act (NEPA) and is designed to inform the Responsible Official of the potential environmental consequences of continued livestock grazing on this allotment. The Responsible Official for this decision is the Hebgen Lake District Ranger. The analysis will also advise of any changes in grazing practices that should be considered.

Cattle grazing around the West Yellowstone area is recognized to be controversial since it influences management practice adopted to prevent the transmission of brucellosis to cattle from bison migrating out of Yellowstone Park (Interagency Bison Management Plan, 12/2000).

The purpose of proposing re-issuance of a livestock grazing permit on the Horse Butte allotment is to continue to allow for this economic activity. Livestock grazing has been an important use of lands within and around the Gallatin National Forest since the 1800's. Grazing has been authorized since the formation of the Gallatin National Forest in the early 1900's and it continues to be an important part of the region's economy today. The Gallatin Forest Plan (1987) set goals and objectives for management of rangeland habitats and livestock grazing. The applicable management area goal for this are is to provide forage for livestock consistent with meeting grizzly bear mortality reduction goals as established by the Interagency Grizzly Bear Committee (Forest Plan, MA 15, pg. III-47). The decision to be made now is whether to re-issue the livestock grazing permit and if so, under what conditions.

The Forest Service will consider a range of alternatives. One of these will be the “no action” alternative, in which none of the proposed activities would be implemented. The EIS will analyze the direct, indirect, and cumulative environmental effects of the alternatives. Past, present, and projected activities on both private and National Forest lands will be considered.

The Forest Service will be seeking information, comments, and assistance from Federal, State, and local agencies and other individuals or organizations who may be interested in or affected by the proposed action. No public meetings are scheduled at this time. Comments from the public and other agencies will be used in preparation of a Draft EIS.

The Draft EIS is expected to be filed with the Environmental Protection Agency (EPA) and available for public review in the fall of 2003. At that time, the EPA will publish a Notice of Availability of the Draft EIS in the Federal Register. The comment period on the Draft EIS will be 45 days from the date the EPA's notice of availability appears in the Federal Register. It is very important that those interested in this proposal participate at that time. The Final EIS is scheduled to be completed by summer of 2004.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 30-day scoping comment period so that substantive comments and objections are made available to the Forest Service at a time when it can meaningfully consider them and respond to them in developing issues and alternatives. To assist the Forest Service is identifying and considering issues, comments should be as specific to this proposal as possible. Reviewers may wish to refer to the Council on Environmental Quality Regulations for implementing the procedural provisions of the National Environmental Policy Act at 40 CFR 1503.3 in addressing these points.

I am the responsible official for this environmental impact statement. My address is Gallatin National Forest, PO Box 130, Federal Building, Bozeman, MT 59771.

Dated: December 6, 2001.
Rebecca Heath,
Forest Supervisor, Gallatin National Forest.

[FR Doc. 01-30664 Filed 12-11-01; 8:45 am]

BILLING CODE 3410-11-M